DEPARTMENT OF HEALTH AND HUMAN SERVICES

Centers for Disease Control and Prevention

[Program Announcement 00041]

Public Health Leadership Institute; Notice of Availability of Funds

A. Purpose

The Centers for Disease Control and Prevention (CDC) announces the availability of fiscal year (FY) 2000 funds for a cooperative agreement program for Public Health Leadership Institute. This program addresses the “Healthy People 2010”, focus area 23-8, which states that the goal is to: “Increase the proportion of Federal, Tribal, State, and local agencies that incorporate specific competencies in the essential public health services into personnel systems.” The purpose of this cooperative agreement program is to enhance the leadership knowledge and skills of State and local health officials and other public health professionals by conducting an annual Public Health Leadership Program. The program is intended to provide participants with a learning experience, highlighted by an intensive on-site program. It will provide an opportunity for public health leaders to interact and create a network of leaders who can be instrumental in influencing the future direction of public health. Participants will be periodically evaluated during the program to determine the impact of the experience on their level of leadership ability and their organization's effectiveness and efficiency. The results of these evaluations, along with the participants' recommendations for improvement, will be used in planning activities for future leadership programs.

The long-term objectives of the cooperative agreement are to:

1. Provide an annual forum for discussions and the critical analysis of current public health issues.

2. Develop a network of public health leaders who can provide ongoing support to the public health infrastructure following attendance at the program.

3. Strengthen the relationship between public health practice and academia by providing a model for such interaction.

4. Enhance and develop leadership skills and abilities of participants in areas that are vital to the operation of their health agencies.

The core faculty of the program will consist of recognized leaders from academia. Leaders from the private sector, professional and voluntary organizations, government agencies and legislative staffs will also be recruited when specialized expertise is required.

B. Eligible Applicants

Applications may be submitted by public and private nonprofit organizations and by governments and their agencies; that is, universities, colleges, research institutions, hospitals, other public and private nonprofit organizations, State and local governments or their bona fide agents, and federally recognized Indian tribal governments, Indian tribes, or Indian tribal organizations.

Note: Public Law 104-65 states that an organization described in section 501(c)(4) of the Internal Revenue Code of 1986 that engages in lobbying activities is not eligible to receive Federal funds constituting an award, grant, cooperative agreement, contract, loan, or any other form.

C. Availability of Funds

Approximately $500,000 is available in FY 2000 to fund one award. It is expected that the award will begin on September 30, 2000 and will be made for a 12-month budget period within a project period of up to five years. Funding estimates may change.

Continuation awards within an approved project period will be made on the basis of satisfactory progress as evidenced by required reports, and the availability of funds.

Use of Funds

The proposed budget should include travel costs for two meetings at the Centers for Disease Control and Prevention during each year to discuss programmatic issues and concerns.

D. Program Requirements

In conducting activities to achieve the purpose of this program, the recipient will be responsible for the activities under 1. (Recipient Activities), and CDC will be responsible for the activities listed under 2. (CDC Activities).

1. Recipient Activities

a. Coordinate a steering committee which should include leaders from academia, health organizations such as the Association of State and Territorial Health Officials (ASTHO), the National Association of County and City Health Officials (NACCHO), the National Governor's Association (NGA), the National Association of County Officials (NACO), and the American Association of Hospital Professionals (AAHP) and alumni from other leadership development programs.

b. Develop and present a comprehensive advanced leadership program to enhance existing leadership skills and abilities of participants in the areas that are critical to the operation of State and local public health systems.

c. Demonstrate how the curriculum supports the improved capacity of public health leaders to achieve significant progress in advancing public health effectiveness as measured by the National Public Health Performance Standards.

d. Provide a conference facility for at least one on-site forum to engage in discussions and critical analysis of current health issues as well as continuing discussions during the year-long experience.

e. Develop a network of public health leaders who can strengthen the public health infrastructure after attending the program.

f. Develop a model for interaction between public health practice and academia.

g. Documentation and certification that the applicant has the ability to provide CCU or CME credits.

h. Provide expenses for participants to attend the on-site week.

i. Develop an evaluation plan to determine the impact of the leadership experience on participants ability to enhance organizational effectiveness and efficiency.

j. Develop a funding plan that demonstrates efforts for sustainability of the program and includes options for both applicant and participant costs.

k. Demonstrate a plan that ensures continued educational opportunities and collaborative efforts between the current class participants and previous graduates of this national public health leadership program.

2. CDC Activities

a. Provide technical assistance and consultation in all phases of the planning, preparation and presentation of the Institute.

b. Assist as needed in the development of goals and objectives of the program and curriculum.

c. Provide technical assistance, as needed, with identification of potential faculty members to be recruited from the private sector, legislative staffs, and other health agencies.

E. Application Content

Use the information in the Program Requirements, Other Requirements, and Evaluation Criteria sections to develop the application content. Your application will be evaluated on the criteria listed, so it is important to follow them in laying out your program plan. The narrative should be no more than 30 double-spaced pages, printed on one side, with one inch margins, and unreduced font.

F. Submission and Deadline

Letter of Intent (LOI)

Your letter of intent (LOI) should include the following information: A brief letter stating that the applicant intends to submit a full proposal on or before the final application submission date. The LOI is not required and will not be used for accepting or evaluating applications, but for CDC planning purposes only. The LOI should be submitted by U.S. postal mail on or before June 15, 2000 to the Grants Management Specialist identified in the “Where to Obtain Additional Information” section of this announcement.

Application

Submit the original and two copies of the PHS Form 5161-1 (OMB Number 0937-0189). Forms are available at the following Internet address: www.cdc.gov.od/pgo/forminfo.htm or in the application kit.

On or before July 15, 2000, submit the application to the Grants Management Specialist identified in the “Where to Obtain Additional Information” section of this announcement.

Deadline

Applications shall be considered as meeting the deadline if they are either:

(a) Received on or before the deadline date; or

(b) Sent on or before the deadline date and received in time for submission to the Independent Review Group. (Applicants must request a legibly dated U.S. Postal Service postmark or obtain a legibly dated receipt from a commercial carrier or U.S. Postal Service. Private metered postmarks shall not be acceptable as proof of timely mailing.)

Late Applications

Applications which do not meet the criteria in (a) or (b) above are considered late applications, will not be considered, and will be returned to the applicant.

G. Evaluation Criteria

Each application will be evaluated individually against the following criteria by an independent review group appointed by CDC.

1. Plan (25 Points)

Extent to which the applicant understands the issues to be addressed in accordance with the purpose of the cooperative agreement. This plan should demonstrate the willingness to develop a partnership with other nationally recognized, advanced leadership and management programs in both public and private sectors, in health and non-health settings, and how these programs would assist to develop, execute and evaluate the proposed program. Applicant should be able to demonstrate the ability to develop a public health leadership development program model. Applicants must be able to recruit nationally recognized core faculty from academic institutions, State and/or Federal Governmental Agencies, professional and voluntary organizations and private industries who have demonstrated background and knowledge in the research and applications to leadership skill building activities. Applicant must relate their understanding of the existing literature and data on advanced leadership development programs. A detailed work plan which includes measurable objectives must be submitted. The plan should demonstrate a clear understanding of contemporary issues and concerns of practicing public health practitioners.

2. Objectives (30 Points)

Extent to which the applicant has a clear description of the objectives of the project and the specific and measurable steps to be taken in the measurable implementation of the program. The respective responsibilities of any other partners should be clearly described. Applicant must include goals that are feasible to be accomplished during the budget period, address all activities necessary to accomplish them and a time-line which shows the objectives are specific, time-phased and measurable. A description of activities that the applicant has been involved with which would indicate an ability to accomplish this project should be included.

3. Methods (25 Points)

Extent to which the applicant provides a detailed description of the proposed activities which are likely to achieve each objective and overall program goals. The description should include: (1) A reasonable and complete schedule for implementing all activities, (2) designation of responsibility for each action, (3) position descriptions, Curriculum Vitae (CV's) and lines of responsibility appropriate to accomplishment of program goals and objectives, (4) letters of support from other partners or constituents involved and their concurrence with the applicant's plans, and (5) suggested geographical location for the on-site program and facilities including space and equipment needed to deliver the Institute.

4. Evaluation (20 Points)

The extent to which the proposed evaluation system is detailed and will document program progress, effectiveness, impact and outcome. The extent to which the applicant demonstrates potential data sources for evaluation proposed, and documents staff availability, expertise, and capacity to perform the evaluation. The extent to which a feasible plan for reporting evaluation results and using evaluation information for programmatic decisions is included. Plans for short-term and long-term evaluation with a baseline of data to be collected and measured throughout the entire program covered under the cooperative agreement. Documentation and certification that the applicant has the ability to provide Continuing Education Units (CEU) or Continuing Medical Education (CME) credits.

5. Budget (Not Scored)

Applicant must provide justification for budget expenditures as well as appropriateness to activities proposed in their application. Costs for each component of the program (design and development, on-site program, evaluation, personnel, travel, etc.) must be included. If applicant expects to receive funds from other partners or sources these must be clearly stated and detailed according to the costs that will be covered.

H. Other Requirements

Technical Reporting Requirements

Provide CDC with original plus two copies of:

1. Semi-annually progress reports;

2. Financial Status Report (FSR), no more than 90 days after the end of the budget period; and

3. Final financial status and performance reports, no more than 90 days after the end of the project period.

Send all reports to the Grants Management Specialist identified in the “Where to Obtain Additional Information” section of this announcement.

The following additional requirements are applicable to this program. For a complete description of each, see Attachment I in the application kit.

AR-10—Smoke-Free Workplace Requirements

AR-11—Healthy People 2010

AR-12—Lobbying Restrictions

I. Authority and Catalog of Federal Domestic Assistance Number

This program is authorized under section 1704 of the Public Health Service Act, 42 U.S.C. section 300u-3, as amended. The Catalog of Federal Domestic Assistance number is 93.283.

J. Where To Obtain Additional Information

This and other CDC announcements may be found on the CDC home page on the Internet: http://www.cdc.gov. To receive additional written information and to request an application kit, call 1-888-GRANTS4 (1-888 472-6874). You will be asked to leave you name and address and will be instructed to identify the announcement number of interest. If you have questions after reviewing the contents of all the documents, business management technical assistance may be obtained from: Van Malone, Grants Management Specialist, Grants Management Branch, Procurement and Grants Office, Centers for Disease Control and Prevention, Room 3000, 2920 Brandywine Road, Atlanta, GA 30341-4146, Telephone number (770) 488-2764, email vxm7@cdc.gov.

For program technical assistance, contact: Donna C. Carmichael, Public Health Practice Program Office 4770 Buford Highway, MS K-39, Atlanta, GA 39341, Telephone: (770) 488-2417 email dcc0@cdc.gov.

Dated: April 25, 2000.
John L. Williams,
Director, Procurement and Grants Office, Centers for Disease Control and Prevention (CDC).

[FR Doc. 00-10734 Filed 4-28-00; 8:45 am]

BILLING CODE 4163-18-P